INTERNATIONAL TRADE COMMISSION

[Inv. No. 337-TA-1148]

Certain Integrated Circuits and Products Containing the Same Institution of Investigation

AGENCY: U.S. International Trade Commission.

ACTION: Notice; Institution of Investigation Pursuant to 19 U.S.C. 1337.

SUMMARY: Notice is hereby given that a complaint was filed with the U.S. International Trade Commission on December 19, 2018, under section 337 of the Tariff Act of 1930, as amended, on behalf of Tela Innovations, Inc. of Los Gatos, California. The complaint was amended on February 7, 2019. Supplements to the amended complaint were filed on February 13 and 26, 2019. The complaint, as amended, alleges violations of section 337 based upon the importation into the United States, the sale for importation, and the sale within the United States after importation of certain integrated circuits and products containing the same by reason of infringement of certain claims of U.S. Patent No. 7,943,966 (“the '966 patent”); U.S. Patent No. 7,948,012 (“the '012 patent”); U.S. Patent No. 10,141,334 (“the '334 patent”); U.S. Patent No. 10,141,335 (“the '335 patent”); and U.S. Patent No. 10,186,523 (“the '523 patent”). The amended complaint further alleges that an industry in the United States exists as required by the applicable Federal Statute.

The complainant requests that the Commission institute an investigation and, after the investigation, issue a limited exclusion order and cease and desist orders.

ADDRESSES: The amended complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2018).

Scope of Investigation: Having considered the amended complaint, the U.S. International Trade Commission, on March 8, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 2, 32, and 33 of the '966 patent; claims 2, 27, and 28 of the '012 patent; claims 1, 2, 5, 6, 9, 11, 15, 20, and 24 of the '334 patent; claims 1, 2, 5, 6, 9, 11, 15, 20, and 24 of the '335 patent; and claims 1-12, 14-20, 22-24, and 26 of the '523 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “Intel's 14nm or smaller Tri-Gate integrated circuits and products that contain such Intel integrated circuits, specifically, microprocessors, modems, field programmable gate arrays (FPGAs), printed circuit boards, chipsets, laptops, desktops, computer tablets, all-in-one PCs, notebooks, servers, board-level computers, and board-level computer kits”;

(3) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainant is: Tela Innovations, Inc., 475 Alberto Way, Suite 120, Los Gatos, CA 95032.

(b) The respondents are the following entities alleged to be in violation of section 337, and are the parties upon which the amended complaint is to be served:

Acer, Inc., 1F, 88, Sec. 1, Xintai 5th Road, Xizhi, New Taipei City 221, Taiwan

Acer America Corporation, 333 West San Carlos Street, Suite 1500, San Jose, CA 95110

AsusTek Computer Inc., No. 15, Li-Te Road, Beitou District, Taipai 112, Taiwan

Asus Computer International, 800 Corporate Way, Fremont, CA 94539

Intel Corporation, 2200 Mission College Boulevard, Santa Clara, CA 95052

Lenovo Group Ltd., No. 6 Chuang Ye Road, Shangdi Information Industry Base, Beijing 100085, China

Lenovo (United States) Inc., 1009 Think Place, Morrisville, NC 27560

Micro-Star International Co., Ltd., No. 69, Lide Street, Zhonghe District, New Taipei City 235, Taiwan

MSI Computer Corp., 901 Canada Court, City of Industry, CA 91748

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: March 11, 2019.
Katherine Hiner,
Acting Secretary to the Commission.

[FR Doc. 2019-04784 Filed 3-14-19; 8:45 am]

BILLING CODE 7020-02-P